DEPARTMENT OF COMMERCE

National Oceanic and Atmospheric Administration

Announcement of South Slough National Estuarine Research Reserve Revised Management Plan

AGENCY: Estuarine Reserves Division, Office of Ocean and Coastal Resource Management, National Ocean Service, National Oceanic and Atmospheric Administration, U.S. Department of Commerce.

ACTION: Notice of approval and availability of the final revised management plan for the South Slough National Estuarine Research Reserve.

SUMMARY: Notice is hereby given that the Estuarine Reserves Division, Office of Ocean and Coastal Resource Management, National Ocean Service, National Oceanic and Atmospheric Administration (NOAA), U.S. Department of Commerce has approved the revised management plan for the South Slough National Estuarine Research Reserve (Reserve).

The Reserve was designated in 1974 pursuant to Section 315 of the Coastal Zone Management Act of 1972, as amended, 16 U.S.C. 1461 and has been operating under the management plan revised in 1994. Pursuant to 15 CFR Section 921.33(c), a state must revise their management plan every five years. The submission of this plan fulfills this requirement for the period from 2006-2011 and sets a course for successful implementation of the goals and objectives of the reserve.

The mission of the South Slough reserve management plan is to improve the understanding and stewardship of Pacific Northwest estuaries and coastal watersheds through site-based estuarine research, stewardship and education. The management plan identifies nine priority management issues that are addressed through reserve programs. These priority issues are (1) invasive species, (2) water pollution, (3) threatened and endangered species, (4) commercial oyster cultivation, (5) vegetation and sediment management, (6) forest management and fire, (7) harvests of secondary forest products, (8) disaster prevention and response, and (9) archeological artifacts and historic structures. South Slough reserve's management plan addresses these issues with specific programs for resource management and protection, research and monitoring, education and training, public access and visitor use, program administration, and partnerships and regional coordination.

The plan identifies management goals, priority resource management issues or threats that these goals must address, and specific strategies to accomplish these goals. The resource management and protection program addresses issues such as developing a systematic process to assess ecological health of the reserve, implementing resource management strategies, developing land use policies on the reserve, implementing the reserve Cooperative Plan for Watershed Conservation, assisting with the revision of the trail master plan, enhancing the application of GIS to stewardship priorities, improving restoration monitoring capacity, and enhancing community involvement in coastal stewardship.

The research and monitoring program supports research focused on estuarine ecology and assessments of functional biotic diversity, investigation of links between land-margin ecosystem elements, and evaluation of the effects of human disturbance within estuaries. Staff, graduate students, and visiting researchers conduct monitoring and research within the watersheds and boundaries of the reserve and use GIS to map critical habitats and hydrology and hydrodynamic processes.

The education and training program at the reserve targets audiences of all ages and backgrounds for traditional, experiential, training and outreach opportunities. The education program is also upgrading and expanding the Reserve's exhibitry to better interpret scientific data collected by the research program, enhancing methods to engage middle and high school audiences, evaluate program offerings, implement a school-to-work educational experience, update information for visitors, and enhance program participation.

The coastal Training Program will focus on identifying the needs of coastal decision makers (CDM's), conducting training workshops for CDM's, testing and adapting an Inquiry-Based Information Services model to identify information gaps and develop demonstration projects, conducting evaluations to measure the effectiveness of training and outreach programs, and developing an internet-based training and information program for CDM's.

The public access and facilities priorities at the reserve includes assessing opportunities to enhance access to the southern end of the reserve, establishing a visitor center/office in Charleston, revising the facilities master plan, establishing a facilities maintenance and replacement schedule, and reducing operations costs through innovative energy oriented technologies. Visitor use policies are designed to provide for compatible use and protection of valuable natural resources.

The administration program ensures the staffing and budget is adequate to carry out the goals and objectives of the plan. Situated within its parent agency, Oregon Department of State Lands, the administrative staff develops stable funding and grant match opportunities and manages grants and cooperative agreements effectively and efficiently. Priorities include developing a volunteer program, a communication plan, a plan to enhance information and communication technology, evaluating the need to revise the reserve's Administrative Rules, and developing facility use policies.

FOR FURTHER INFORMATION CONTACT: Nina Garfield at (301) 563-1171 or Kate Barba, Acting Chief, Estuarine Reserves Division at (301) 563-1182 of NOAA's National Ocean Service, Estuarine Reserves Division, 1305 East-West Highway, N/ORM5, 10th floor, Silver Spring, MD 20910.

Dated: August 29, 2005.
David M. Kennedy,
Director, Office of Ocean and Coastal Resource Management, National Oceanic and Atmospheric Administration.

[FR Doc. E6-14603 Filed 9-1-06; 8:45 am]

BILLING CODE 3510-22-P